DEPARTMENT OF THE INTERIOR

Fish and Wildlife Service

Endangered Species Permit Applications

AGENCY: Fish and Wildlife Service, DOI.

ACTION: Notice of receipt of permit applications.

SUMMARY: The following applicants have applied for a scientific research permit to conduct certain activities with endangered species pursuant to section 10(a)(1)(A) of the Endangered Species Act of 1973, as amended (16 U.S.C. 1531 et seq.).

Permit No. TE-036120

Applicant: Michael Stephen Powers, San Diego, California

The applicant requests a permit to take (survey by pursuit) the Quino checkerspot butterfly (Euphydryas editha quino) in conjunction with presence or absence surveys throughout its range for the purpose of enhancing its survival.

Permit No. TE-036065

Applicant: Korey Klutz, Chula Vista, California

The applicant requests a permit to take (survey by pursuit) the Quino checkerspot butterfly (Euphydryas editha quino) in conjunction with presence or absence surveys throughout its range for the purpose of enhancing its survival.

Permit No. TE-027736

Applicant: David Erik LaCoste, Ramona, California

The permittee requests a permit amendment to take (survey by pursuit) the Quino checkerspot butterfly (Euphydryas editha quino) in conjunction with presence or absence surveys throughout its range for the purpose of enhancing its survival.

Permit No. TE-036034

Applicant: Tierra Data Systems, Escondido, California

The applicant requests a permit to remove and reduce to possession specimens of Arctostaphylos glandulosa ssp. crassifolia (Del Mar manzanita), Chorizanthe orcuttiana (Orcutt's spineflower), and Fremontodendron mexicanum (Mexican flannelbush) in conjunction with collecting voucher specimens throughout each species' range for the purpose of enhancing their survival.

Permit No. TE-807078

Applicant: Point Reyes Bird Observatory, Stinson Beach, California

The permittee requests an amendment to extend the geographic area and take (harass, capture and band) the California least tern (Sterna antilluarum browni) in conjunction with monitoring throughout the Oakland-San Francisco Bay area in California for the purpose of enhancing its survival.

This application for the California least tern was published in the Federal Register on June 20, 2000, for Alameda County, California.

Permit No. TE-035879

Applicant: Wildlands, Inc., Citrus Heights, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys and identification of conservation areas, throughout each species' range in California for the purpose of enhancing their survival.

Permit No. TE-021544

Applicant: Salavatore Zimmitti, San Diego, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys and identification of conservation areas, throughout each species' range in California for the purpose of enhancing their survival.

Permit No. TE-035514

Applicant: Kevin J. Roe, University of Alabama, Tuscaloosa, Alabama

The applicant requests a permit to take (collect and sacrifice) the California freshwater shrimp (Syncaris pacifica) in conjunction with genetics research throughout the species range in California for the purpose of enhancing its survival.

Permit No. TE-036138

Applicant: Wendy Hooper, Ahwahnee, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-768251

Applicant: Biosearch Wildlife Surveys, Santa Cruz, California

The permittee requests an amendment to take (capture and handle; collect tissue samples) the California tiger salamander (Ambystoma californiense) in conjunction with presence or absence surveys and genetic research in Santa Barbara County, California for the purpose of enhancing its survival.

Permit No. TE-797234

Applicant: LSA Associates, Inc., Point Richmond, California

The permittee requests an amendment to take (capture and handle; collect tissue samples) the California tiger salamander (Ambystoma californiense) in conjunction with presence or absence surveys and genetic research in Santa Barbara County, California for the purpose of enhancing its survival.

Permit No. TE-836521

Applicant: Dan Holland, Fallbrook, California

The permittee requests an amendment to take (capture) the San Francisco garter snake (Thamnophis sirtalis tetrataenia) in conjunction with surveys through out the species' range in California for the purpose of enhancing its survival.

Permit No. TE-025582

Applicant: URS, San Diego, California

The applicant requests a permit to: take (harass by survey) California clapper rail (Rallus longirostris obsoletus), light-footed clapper rail (Rallus longirostris levipes), and Yuma clapper rail (Rallus longirostris yumanensis); take (harass by survey and monitor nests) the coastal California gnatcatcher (Polioptila californica californica) and southwestern willow flycatcher (Empidonax traillii extimus); take (capture, handle, and release) the San Francisco garter snake (Thamnophis sirtalis tetrataenia), riparian brush rabbit (Sylvilagus bachmani riparius), blunt-nosed leopard lizard (Gambelia silus), southwestern arroyo toad (Bufo microscaphus californicus), Fresno kangaroo rat (Dipodomys nitratoides exilis), giant kangaroo rat (Dipodomys ingens), Tipton kangaroo rat (Dipodomys nitratoides nitratoides), Pacific pocket mouse (Pergnathus longimembris pacificus), Stephens' kangaroo rat (Dipodomys stephensi), San Bernardino merriam's kangaroo rat (Dipodomys merriami parvus), salt marsh harvest mouse (Reithrodontomys raviventris), Mohave tui chub (Gila bicolor mohavensis), Owens tui chub (Gila bicolor snyderi), Lost river sucker (Deltistes luxatus), razorback sucker (Xyraunchen texanus), desert pupfish (Cyprinodon radiosus), unarmored threespine stickleback (Gasterosteus aculeatus williamsoni), desert slender salamander (Batrachoseps aridus), and tidewter goby (Eucyclogobius newberryi); take (capture and handle; collect tissue samples) the California tiger salamander (Ambystoma californiense); take (survey by pursuit) the Quino checkerspot butterfly (Euphydryas editha quino), El Segundo blue butterfly (Euphilotes battoides allyni), and Delhi sand's flower-loving fly (Rhaphiomidas terminatus abdominalis); take (harass by survey, collect, and sacrifice) the Conservancy fairy shrimp (Branchinecta conservatio), longhorn fairy shrimp (Branchinecta longiantenna), vernal pool tadpole shrimp (Lepidurus packardi), California freshwater shrimp (Syncaris pacifica), San Diego fairy shrimp (Brachinecta sandiegonensis), and the Riverside fairy shrimp (Streptocephalus woottoni) in conjunction with surveys throughout each species' range for the purpose of enhancing their survival.

Permit No. TE-036890

Applicant: Virginia Moran, Julian, California

The applicant requests a permit to take (survey by pursuit) the Quino checkerspot butterfly (Euphydryas editha quino) in conjunction with presence or absence surveys throughout its range for the purpose of enhancing its survival.

Permit No. TE-036550

Applicant: Nina Jimerson, Aliso Viejo, California

The applicant requests a permit to take (survey by pursuit) the Quino checkerspot butterfly (Euphydryas editha quino) in conjunction with presence or absence surveys throughout its range for the purpose of enhancing its survival.

Permit No. TE-036922

Applicant: Rebecca Loomis, San Diego, California

The applicant requests a permit to take (survey by pursuit) the Quino checkerspot butterfly (Euphydryas editha quino) in conjunction with presence or absence surveys throughout its range for the purpose of enhancing its survival.

Permit No. TE-787376

Applicant: Peter Bloom, Santa Ana, California

The permittee requests an amendment to take (harass by survey, locate and monitor nests, capture, mark, band, and release) the southwestern willow flycatcher (Empidonax traillii extimus) in conjunction with surveys and scientific research throughout its species range in California for the purpose of enhancing its survival.

DATES: Written comments on these permit applications must be received on or before February 5, 2001.

ADDRESSES: Written data or comments should be submitted to the Chief-Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: December 28, 2000.
Daniel H. Diggs,
Regional Director, Region 1, Portland, Oregon.

[FR Doc. 01-310 Filed 1-4-01; 8:45 am]

BILLING CODE 4310-55-P